DEPARTMENT OF TRANSPORTATION

Federal Aviation Administration

Notice of Opportunity for Public Comment on the Release of Deed Restrictions at the Yellowstone Airport, West Yellowstone, MT

AGENCY: Federal Aviation Administration (FAA), DOT.

ACTION: Notice of Request to Release Deed Restrictions.

SUMMARY: The FAA is considering a request from the State of Montana to release certain deed restrictions at the Yellowstone Airport, MT.

DATES: Comments must be received on or before January 19, 2018.

ADDRESSES: Comments on this application may be mailed or delivered to the FAA at the following address: Mr. William C. Garrison, Manager, Federal Aviation Administration, Northwest Mountain Region, Airports Division, Helena Airports District Office, 2725 Skyway Drive, Suite 2, Helena, Montana 59602.

In addition, one copy of any comments submitted to the FAA must be mailed or delivered to Ms. Debbie Alke, Administrator, Montana Department of Transportation Aeronautics Division, at the following address: Ms. Debbie Alke, Administrator, Aeronautics Division, Montana Department of Transportation, P.O. Box 200507, Helena, MT 59620-0507.

FOR FURTHER INFORMATION CONTACT: Mr. Steve Engebrecht, Civil Engineer/Compliance Specialist, Federal Aviation Administration, Northwest Mountain Region, Helena Airports District Office, 2725 Skyway Drive, Suite 2, Helena, Montana 59602.

The request to release deed restrictions may be reviewed, by appointment, in person at this same location.

SUPPLEMENTARY INFORMATION: The FAA invites public comment on the request to release deed restrictions at the Yellowstone Airport under the provisions of the Title 49, U.S.C. Section 47125.

The FAA Modernization and Reform Act of 2012, HR 658, Section 817, gave the Secretary of Transportation the authorization to grant an airport, city, or county release from any of the terms, conditions, reservations, or restrictions contained in a deed under which the United States conveyed to the airport, city, or county an interest in real property for airport purposes pursuant to Section 16 of the Federal Airport Act (60 Stat. 179) or Section 23 of the Airport and Airway Development Act of 1970 (84 Stat. 232).

Release of the deed restrictions at the Yellowstone Airport will allow the State of Montana the opportunity to consider additional revenue sources for maintaining and operating the airport.

On October 25, 2017, the FAA determined that the request to release deed restrictions at the Yellowstone Airport submitted by the Montana Department of Transportation meets the procedural requirements of the Federal Aviation Administration. The FAA may approve the request, in whole or in part, after January 19, 2018.

The following is a brief overview of the request:

The Montana Department of Transportation is proposing the release of deed restrictions at the Yellowstone Airport from a Correction Deed issued on August 12, 1968. On October 7, 1963, a deed containing restrictions transferred the airport property from the United States to the State of Montana. The airport was built in 1963 as a cooperative effort between the United States Departments of the Interior and Agriculture, the Federal Aviation Administration (FAA), and the State of Montana. A subsequent Correction Deed (correcting the legal description) issued on August 12, 1968 contains those same restrictions, under which the airport has operated for 50 years. In an effort to make the airport more economically viable, the State of Montana and the Montana Department of Transportation (MDT) request the following deed restrictions be removed:

• Deed Restriction 1. “The State of Montana will use the lands herein conveyed for airport development.”: Requesting release of approximately 175 acres from this deed restriction in order to maintain financial viability by permitting possible development of these areas for non-airport development related purposes to generate new sources of income to operate and maintain the airport.

• Deed Restriction 6. “That all facilities of the airport developed with Federal aid and all those useable for landing and take-off of aircraft will be available at all times without charge for use by the Department of Agriculture and Interior in the conduct of its official business in common with other aircraft.”: Requesting release of all airport property from this deed restriction in order to maintain financial viability by being permitted to charge for substantial use by the Department of Agriculture and Department of Interior aircraft, in compliance with Grant Assurance 27.

• Deed Restriction 7. “That no commercial overnight facilities, such a motels, hotels, or private residences will be constructed on the property herein conveyed.”: Requesting release of approximately 65 acres from this deed restriction in order to maintain financial viability by permitting possible development of commercial overnight facilities and generate new sources of income to operate and maintain the airport. MDT understands that residential development is non-compliant with its federal grant assurances and has no intention of allowing private residences to be constructed on airport property.

• Deed Restriction 8. “That commercial advertising signs will be prohibited within the airport access road area.”: Requesting release of approximately 65 acres from this deed restriction in order to maintain financial viability by permitting possible development of commercial advertising signs within the airport access road area and generate new sources of income to operate and maintain the airport.

If the deed restrictions are released, prior to moving forward with any associated non-aeronautical development, MDT understands it will still be required to: Obtain a release from federal obligation to change the designated use of the property from aeronautical to non-aeronautical use, comply with National Environmental Policy Act (NEPA), and undergo an aeronautical study through the 7460-1 process.

Any person may inspect, by appointment, the request in person at the FAA office listed above under FOR FURTHER INFORMATION CONTACT.

In addition, any person may, upon appointment and request, inspect the request to release deed restrictions and other documents germane to the request in person at the Yellowstone Airport.

Issued in Helena, Montana, on December 7, 2017.
William C. Garrison,
Manager, Helena Airports District Office.

[FR Doc. 2017-27420 Filed 12-19-17; 8:45 am]

BILLING CODE 4910-13-P